DEPARTMENT OF THE INTERIOR

Bureau of Ocean Energy Management

[BOEM 2017-0050]

Request for Information and Comments on the Preparation of the 2019-2024 National Outer Continental Shelf Oil and Gas Leasing Program MAA104000

AGENCY: Bureau of Ocean Energy Management, Interior.

ACTION: Request for information and comments.

SUMMARY: The Bureau of Ocean Energy Management (BOEM) is soliciting information and requesting comments on the preparation of a new five-year National Outer Continental Shelf Oil and Gas Leasing Program (National OCS Program) for 2019-2024 pursuant to the Outer Continental Shelf (OCS) Lands Act. Upon completion, the National OCS Program for 2019-2024 will replace the National OCS Program for 2017-2022 (2017-2022 Program), which was approved on January 17, 2017, and will succeed the National OCS Program for 2012-2017 on July 1, 2017.

DATES: BOEM must receive all comments and information by August 17, 2017.

ADDRESSES: Submit comments and information via the Federal internet commenting system at http://www.regulations.gov by following the instructions in the “Public Comment Procedure” section of this notice. Mail comments and information, including all privileged or proprietary information, by U.S. mail to Ms. Kelly Hammerle, National Program Manager, BOEM, 45600 Woodland Road, Mailstop VAM-LD, Sterling, VA 20166.

FOR FURTHER INFORMATION CONTACT: Ms. Kelly Hammerle, National Program Manager, at (703) 787-1613 or by email at [add email address].

SUPPLEMENTARY INFORMATION: The Outer Continental Shelf (OCS) Lands Act, 43 U.S.C. 1331 et seq., declares that it is the policy of the United States that the OCS, as “a vital national resource reserve,” should be available for “expeditious and orderly development, subject to environmental safeguards” and consistent with maintaining competition and other national needs. 43 U.S.C. 1333(3). Section 18 of the OCS Lands Act, 43 U.S.C. 1344, requires the Department of the Interior (DOI) to invite and solicit information from interested and affected parties during the preparation of a National OCS Program. The 2017-2022 Program was approved on January 17, 2017, and will succeed the 2012-2017 Program on July 1, 2017. BOEM is soliciting information on the preparation of a new National OCS Program for 2019-2024 to, upon completion, replace the 2017-2022 Program.

Section 18 of the OCS Lands Act requires the Secretary of the Interior (Secretary) to prepare and periodically revise and maintain an oil and gas leasing program to implement the Act's policies. The program must contain a schedule of proposed lease sales (including as precisely as possible, the size, timing, and location of leasing activity) which the Secretary determines “will best meet national energy needs for the five year period following its approval. . . .” Section 18 also requires the completion of a multi-step process of public consultation and analysis before the Secretary may approve a new National OCS Program. The process includes the following steps: (1) Issuance of a Request for Information and Comments (RFI); (2) development of a Draft Proposed Program (DPP), (3) development of a Proposed Program, (4) development of a Proposed Final Program (PFP); and (5) Secretarial approval of the Program. Following this RFI, the public will have additional opportunities to comment on both the DPP and the Proposed Program documents.

This RFI requests comments on all 26 OCS Planning Areas, including the areas that are restricted from leasing by Presidential withdrawal or Congressional moratorium, as discussed below. BOEM requests information and comments from States, local and tribal governments, Native American and Native Alaskan organizations, Federal agencies, environmental and other public interest organizations, the oil and gas industry, non-energy industries, other interested organizations and entities, and the general public, for use in the preparation of the 2019-2024 National OCS Program. BOEM is seeking a wide array of information, including, but not limited to, information associated with the economic, social, and environmental values of all OCS resources, as well as the potential impact of oil and gas exploration and development on other OCS resources, and on the marine, coastal and human environments.

The National OCS Program sets forth the proposed schedule of lease sales for the subsequent five-year period, and enables the Federal Government, States, industry, and other interested parties to begin planning for the later steps in the leasing process. The Secretary decides whether to proceed with each specific lease sale on the schedule included in an approved National OCS Program only after meeting all the requirements of the OCS Lands Act and other applicable statutes.

The initiation of a new National OCS Program development process at this time is a key aspect of the implementation of President Donald J. Trump's America-First Offshore Energy Strategy, as outlined in Executive Order (E.O.) 13795 of April 28, 2017 (82 FR 20815, May 3, 2017), and Secretary's Order 3350 of May 1, 2017, issued by Secretary of the Interior Ryan K. Zinke. Section 2 of E.O. 13795 states that it is United States policy to encourage energy exploration and production, including on the OCS, to maintain the Nation's global energy leadership and “foster energy security and resilience for the benefit of the American people, while ensuring that any such activity is safe and environmentally responsible.” Secretary's Order 3350 calls for enhancing opportunities for energy exploration, leasing, and development of the OCS, establishing regulatory certainty for OCS activities, and enhancing conservation stewardship, thereby providing jobs, energy security, and revenue for the American people. As required by E.O. 13795, DOI will cooperate as appropriate and consistent with applicable law with the Department of Defense (DOD) and the Department of Commerce on a number of issues, including issues pertaining to this National OCS Program development process.

The OCS is a significant source of oil and gas to the Nation's energy supply. As of May 2017, BOEM administered over 3,000 active oil and gas leases covering 16 million OCS acres. Production from these leases generates billions of dollars in revenue for the Federal Treasury and State governments, while supporting hundreds of thousands of jobs. In fiscal year 2016, oil and gas leases on the OCS accounted for approximately 18 percent of domestic oil production and 4 percent of domestic natural gas production. The offshore areas of the United States also are estimated to contain significant quantities of resources in yet-to-be-discovered fields. In its 2016 National Assessment (https://www.boem.gov/National-Assessment-2016), BOEM reported that the mean estimate of undiscovered, technically recoverable oil and gas resources in the U.S. OCS consist of 89.87 billion barrels of oil and 327.49 trillion cubic feet of natural gas.

Gulf of Mexico (GOM)

In March 2017, BOEM held the last of 12 lease sales in the GOM scheduled in the 2012-2017 Program. That Program included annual sales in the Central and Western GOM and two sales in the portion of the Eastern GOM not subject to the Congressional moratorium pursuant to the Gulf of Mexico Energy Security Act (GOMESA). These sales have generated approximately $3.4 billion in high bids.

Lease Sale 248 in the Western GOM was held on August 24, 2016. Pursuant to this sale, BOEM awarded 24 leases to the 3 companies that submitted bids, totaling over $18 million in high bids. Lease Sale 247 in the Central GOM was held on March 22, 2017. The sale generated almost $275 million in high bids for 163 blocks by 28 companies. Lease Sale 226, held on March 23, 2016, offered for lease all available unleased acreage in the Eastern GOM, except for those whole and partial OCS blocks deferred by the GOMESA. No bids were received for Sale 226.

BOEM is also moving forward in the prelease sale process for the early sales scheduled in the recently approved 2017-2022 Program, which is effective July 1, 2017, and includes ten region-wide lease sales in the area of the GOM not under Congressional moratorium or otherwise unavailable for leasing. For more information on the lease sale schedule, visit: http://www.boem.gov/Oil-and-Gas-Energy-Program/Leasing/Five-Year-Program/Lease-Sale-Schedule/2012-2017-Lease-Sale-Schedule.aspx. These scheduled lease sales will not be impacted by the preparation of the 2019-2024 National Outer Continental Shelf Oil and Gas Leasing Program.

Alaska

The last sale in the 2012-2017 Program is scheduled for June 21, 2017, in the northern portion of the Cook Inlet Planning Area offshore Alaska. The 2017-2022 Program also schedules a sale in the northern portion of the Cook Inlet Planning Area in 2021. Prelease sale steps will begin in the next year.

The Arctic holds substantial oil and gas potential. In 2016, BOEM estimated Undiscovered Technically Recoverable Oil and Gas Resources (UTRR) in the Chukchi Sea Planning Area to be 29 billion barrels of oil equivalent (BBOE) and in the Beaufort Sea Planning Area to be 13 BBOE. The 2016 National Assessment for all OCS areas is available at https://www.boem.gov/National-Assessment-2016/. No sales are scheduled in the Arctic in the 2017-2022 Program.

Atlantic

Data suggests that portions of the Atlantic OCS may contain significant oil and gas resource potential (see 2016 National Assessment cited above); however, current geological and geophysical (G&G) information regarding that potential is based on data collected in the 1970s and early 1980s. Tremendous advances in instrumentation and technology for the acquisition and analysis of G&G data have been made in the intervening decades.

In recognition of these advances in G&G data acquisition technology and the need to better understand the scope of existing resources, BOEM published, on July 23, 2014 (79 FR 42815), a Record of Decision for the Programmatic Environmental Impact Statement for Atlantic G&G activities, which established a path forward for G&G activities off the Mid- and South Atlantic coast. BOEM is currently evaluating several G&G permit applications. With the initiation of a new Program development process and, with it, the renewed potential for a lease sale in the Atlantic region, BOEM may receive new G&G permit applications in the near future. The last lease sale held in the Atlantic OCS was in 1983.

Pacific Region

The four planning areas off the Pacific coast were not included for potential leasing in the 2017-2022 Program. Eleven OCS oil and gas lease sales were held in the Pacific Region between 1963 and 1984. A total of 470 leases were issued in the 11 sales. Today, there are 43 producing leases and 23 oil and gas platforms, all offshore southern California. In Fiscal Year 2016, production from these leases generated $31.2 million in revenue to the federal treasury from a total of $234 million in sales value from crude oil and natural gas. As a result of Congressional moratoria, subsequent presidential action, and consistent and united opposition by the States of Washington, Oregon, and California to any activity off their coasts, the Pacific OCS has not been included in any National OCS Program since the 1987-1992 Program.

Areas Made Unavailable by Congressional or Presidential Action

With the enactment of GOMESA, Congress placed off-limits to OCS oil and gas leasing activities, through June 30, 2022, the Eastern Gulf of Mexico within 125 miles of Florida; all of the Eastern Gulf of Mexico east of 86 degrees, 41 minutes West longitude; and a portion of the Central Gulf of Mexico within 100 miles of Florida (see Figure 2).

The North Aleutian Basin Planning Area in Alaska was withdrawn from future leasing consideration for a time period without specific expiration by President Barack Obama on December 16, 2014, pursuant to section 12(a) of the OCS Lands Act, 43 U.S.C. 1341(a).

All National Marine Sanctuaries were withdrawn from leasing, for a time period without a specific expiration, by President William J. Clinton on June 12, 1998. Pursuant to E.O. 13795, President Trump withdrew marine sanctuaries that were designated as of July 14, 2008, from disposition by leasing. On September 15, 2016, President Obama designated the first marine national monument in the Atlantic Ocean off the coast of New England as the Northeast Canyons and Seamounts Marine National Monument, prohibiting exploring for, developing, or producing oil and gas or minerals, or undertaking any other energy exploration or development activities within the monument.

In the DPP, BOEM will analyze all 26 OCS Planning Areas, including areas that may be currently unavailable for leasing. An area that is currently unavailable for leasing could still be part of a National OCS Program, but could not be offered for sale until Congress and/or the President, as applicable, makes it available.

National Energy Needs

Section 18 of the OCS Lands Act requires that the Secretary consider national energy needs in formulating the National OCS Program. In developing the National OCS Program, BOEM will present an analysis of the contribution of OCS oil and natural gas to the U.S. economy and the Nation's anticipated energy needs. The analysis will include discussions of the U.S. Energy Information Administration's projections of national energy needs in the Annual Energy Outlook, the potential contribution of OCS oil and natural gas production in meeting those needs, alternative sources to OCS production, and considerations relating to national and regional energy markets. BOEM invites comments from anyone who would like to submit information related to the Nation's future energy needs or national and regional energy markets for consideration in determining the appropriate size, timing, and location of OCS oil and gas lease sales for the new National OCS Program.

OCS Planning Areas To Be Considered and Analyzed

Section 18 of the OCS Lands Act requires that the National OCS Program be based upon a consideration of a comparative analysis of the oil- and gas-bearing regions of the OCS. BOEM has divided the OCS into 26 Planning Areas, which are depicted in Figures 1 and 2. The depicted maritime boundaries and limits, as well as divisions between planning areas, where shown, are for planning and administrative purposes only. Note that precise maritime boundaries between the United States and nearby or adjacent nations have not been determined in all cases. These depictions do not affect or prejudice in any manner the position of the United States, or its individual States, with respect to the nature or extent of internal waters or of sovereign rights or jurisdiction.

This RFI requests information on all 26 planning areas, including areas currently under moratorium, withdrawn, or otherwise unavailable. As set forth in more detail later in this RFI, the information requested is wide-ranging, including information on other uses of the sea, marine productivity, and environmental sensitivity. Accordingly, this RFI invites and provides an opportunity for Governors of affected States, local government, industry, Federal agencies, and the general public to provide suggestions and any other information they believe BOEM should evaluate for purposes of the 2019-2024 Program.

The information solicited in this RFI will be considered in light of the factors specified by section 18 of the OCS Lands Act, which are discussed later herein. Based upon consideration of the analysis of those factors, the Secretary will prepare the DPP and decide which areas to include therein. Pursuant to section 18 of the OCS Lands Act, areas included in the DPP decision will be subject to further analysis.

Section 18 of the OCS Lands Act

As previously noted, the National OCS Program preparation process will follow all the procedural and substantive requirements of section 18 of the OCS Lands Act. This RFI solicits information and comments early in the preparation process pursuant to section 18(c)(1) of the OCS Lands Act, 43 U.S.C. 1344(c)(1). BOEM will prepare a DPP decision document based upon consideration of the information and comments received and analysis of the principles and factors specified in section 18 of the OCS Lands Act. The DPP decision document will present for review and comment a preliminary schedule of proposed lease sales and potential decision options.

Section 18 of the OCS Lands Act provides that, for purposes of preparing a National OCS Program, the Secretary should take into consideration the economic, social, and environmental values of all OCS resources, as well as the potential impact of oil and gas exploration and development on other resource values of the OCS and the marine, coastal and human environments. The eight factors that must be considered in determining the timing and location of leasing under the National OCS Program are set forth in section 18(a)(2) of the OCS Lands act, 43 U.S.C. 1344(a)(2). They are (1) existing information on the geographical, geological, and ecological characteristics of OCS regions; (2) equitable sharing of developmental benefits and environmental risks among the various regions; (3) the location of such regions with respect to, and the relative needs of, regional and national energy markets; (4) the location of such regions with respect to other uses of the sea and seabed, including fisheries, navigation, existing or proposed sea lanes, potential sites of deepwater ports, and other anticipated uses of the resources and space of the OCS; (5) expressed industry interest in the development of oil and gas resources; (6) laws, goals, and policies of affected States specifically identified by governors; (7) the relative environmental sensitivity and marine productivity of different areas of the OCS; and (8) environmental and predictive information for different areas of the OCS.

Section 18(a)(3) of the OCS Lands Act, 43 U.S.C. 1344(a)(3), requires the Secretary to obtain a proper balance among the potential for environmental damage, the potential for discovery of oil and gas, and the potential for adverse impact on the coastal zone, for which the DOI will provide a cost-benefit analysis, as appropriate, to supplement qualitative consideration of these factors. The OCS Lands Act also requires that leasing activities assure the receipt of fair market value for the lands leased and rights conveyed by the Federal Government in the OCS. Section 18(a)(4) of the OCS Lands Act, 43 U.S.C. 1344(a)(4).

Types of Information Requested

BOEM invites comments from anyone who would like to submit information and/or suggestions for consideration in determining, among others things, the appropriate size, timing, and location of potential OCS oil and gas lease sales under the 2019-2024 Program. Please note that BOEM invites all private and public stakeholders, as well as the general public, to comment or provide any information that they believe should be taken into consideration by BOEM during the preparation of the 2019-2024 Program.

This request constitutes a general solicitation of comments and does not seek information about commenters, other than that necessary for self-identification. Therefore it is not subject to the Paperwork Reduction Act, 44 U.S.C. 3501-3521. (Please refer to implementing regulations at 5 CFR 1320.3(h)(4).)

General Information Requested

BOEM would like to receive comments and suggestions of national or regional application that would be useful in formulating the National OCS Program. The types of information that would be most useful in conducting the analysis, pursuant to section 18 of the OCS Lands Act, relate to the following factors:

(1) National energy needs for the period relevant to the new National OCS Program (i.e., 2019 to 2024), in particular, the role of OCS oil and gas leasing and resulting exploration, development and production activities in achieving national energy policy goals; the economic, social, and environmental values of the renewable and nonrenewable resources contained in the OCS; and the potential impact of oil and gas exploration and development on other OCS resource values and the marine, coastal, and human environments;

(2) existing information concerning geographical, geological, and ecological characteristics of the OCS planning areas and near shore and coastal environments;

(3) equitable sharing of developmental benefits and environmental risks among the various planning areas;

(4) location of planning areas with respect to, and the relative needs of, regional and national energy markets;

(5) other uses of the sea and seabed, including commercial and recreational fisheries; navigation; military activities; existing or proposed sea lanes; potential sites of deepwater ports (including liquefied natural gas facilities); subsea cables; satellite launch activities; potential offshore wind, wave, current, or other alternative energy sites; and other anticipated uses of OCS resources and locations;

(6) relative environmental sensitivity and marine productivity of the different planning areas and/or a specific section(s) of a given OCS planning area;

(7) environmental and predictive information pertaining to offshore and coastal areas potentially affected by OCS oil and gas development including, but not limited to, socio-cultural and archaeological information; and

(8) methods and procedures for assuring the receipt of fair market value for lands leased.

Fair Market Value Information Requested

In developing the methods and procedures for assuring the receipt of fair market value for lands leased under section 18(a)(4) of the OCS Lands Act, 43 U.S.C. 1344(a)(4), BOEM sets lease fiscal and temporal terms, and other features relevant to bidding. Given BOEM's responsibility to ensure fair market value for the U.S. Government, BOEM is seeking information in response to the following questions:

(1) If DOI continues leasing in the Gulf of Mexico planning areas, are there changes to lease terms that would better meet the objectives of the OCS Lands Act? Lease terms subject to change include:

a. Minimum bids

b. Rental rates

c. Royalty rates, royalty structures (e.g., flat or price-based)

d. Initial period (also known as primary term) of the lease term and extended initial period (such as, 7 years plus 3 years more if drilling commences)

(2) If DOI offers acreage for lease in planning areas outside the Gulf of Mexico, what fiscal terms for each planning area would best meet the objectives and limitations of the OCS Lands Act regarding the lease terms listed in items 1a. to 1d. above?

a. Is there an alternative design (e.g., auction-type design) that may be better suited to achieve fair market value, either by changing the bidding variable or some other aspect of the competitive lease sale?

b. Should the upcoming program consider use of alternative and/or non-traditional fiscal terms, primary lease terms, auction formats, or tract offering sizes? Please state which of these features of the leasing process merit consideration for future use, where and under what conditions those changes might be useful, and explain why such a change would be necessary or beneficial, e.g., demonstrate that exploration would not occur in selected frontier areas without larger than traditionally-sized tracts in lease sales.

Please note that BOEM is requesting information on these topics to inform its continuing evaluation of market conditions, available resources, bidding patterns (if applicable), and competitiveness of OCS lease terms with respect to each proposed sale. BOEM is asking for public input regarding lease terms or potential changes to lease terms concerning acreage offered during the 2019-2024 Program.

Specific Information Requested

From States

For Coastal States, pursuant to section 18(f)(5) of the OCS Lands Act, 43 U.S.C. 1344(f)(5), and implementing regulations at 30 CFR 556.202, BOEM requests information concerning the relationship between OCS oil and gas activity and the States' coastal zone management programs that are being developed, or are administered, under section 305 or 306 of the Coastal Zone Management Act of 1972, as amended, 16 U.S.C. 1454, 1455. BOEM also requests that non-coastal and Coastal States submit information concerning environmental risk and potential for damage to coastal and marine resources associated with OCS development, information related to other uses of the sea, and any information that is relevant to equitable sharing of developmental benefits and environmental risks associated with OCS oil and gas activity (or the likely energy substitutes in the absence of new OCS leasing). In addition, for non-coastal and Coastal States, information is requested on the impacts of additional OCS leasing, exploration and production and the associated economic impact on the State and national economies and citizens, including impacts to employment, existing and new industries, future export potential, and state taxes.

From the Oil and Gas Industry

Pursuant to section 18(a)(2)(E) of the OCS Lands Act, 43 U.S.C. 1344(a)(2)(E), BOEM will take into account, during the preparation of the National OCS Program, the interest of oil and gas producers in the development of oil and gas resources, as indicated by exploration or nomination. Industry respondents should base this information upon their expectations as of 2017. For each planning area in which industry respondents are interested, they should submit information concerning unleased hydrocarbon potential, future oil and gas price expectations, and other relevant information that the industry respondent uses in making OCS oil and gas leasing decisions. BOEM requests that industry respondents provide additional information, as specified below:

(1) Indicate the OCS Planning Area(s) where the industry respondent would be interested in acquiring oil and gas leases, regardless of whether the area currently is unavailable. If more than one Planning Area is of interest, rank all areas of interest (including those now being offered, if appropriate) in order of preference.

(2) Indicate the number and timing of lease sales in the period 2019-2024 that would be appropriate for each Planning Area. If only one lease sale in a Planning Area is appropriate, indicate whether that area should be considered for leasing early or late in the five-year schedule. If more than one lease sale in a planning area is suggested, indicate the preferred interval between lease sales.

(3) Indicate the expected lead time to production in areas that are not part of the 2017-2022 Program or currently do not have infrastructure or production, relative to lead-times to new production in previously leased areas like the Central and Western Gulf of Mexico.

(4) In addition, BOEM requests information on industry's view of the utility of region-wide sales in the Gulf of Mexico as planned in the 2017-2022 National Program.

Section 18(g) of the OCS Lands Act, 43 U.S.C. 1344(g), authorizes confidential treatment of privileged or proprietary information. In order to ensure security and confidentiality of proprietary information to the maximum extent possible, BOEM requests that proprietary information only be sent by U.S. mail. In addition to prominently stating that proprietary information is contained in the comment at the beginning of the submission, comments should be sent in a plain outer envelope with an inner envelope stating that proprietary information is contained within.

From the U.S. Department of Commerce

Pursuant to section 18(f)(5) of the OCS Lands Act, 43 U.S.C. 1344(f)(5), and implementing regulations at 30 CFR 556.202, BOEM requests information concerning relationships between affected States' coastal zone management programs and OCS oil and gas activities. In coordination with this RFI, BOEM will also send a letter to the Secretary of Commerce soliciting such information.

From the U.S. Department of Energy

Pursuant to BOEM's regulations at 30 CFR 556.202, BOEM requests information concerning regional and national energy markets, and transportation networks, including the role of exports. In coordination with this RFI, BOEM will also send a letter to the Secretary of Energy soliciting such information.

From the U.S. Department of Defense (DOD)

BOEM respects the needs of DOD in their mission of protecting the United States and continues to work closely with DOD to understand and identify potential measures to address any conflicts on the OCS. Multiple use challenges are a concern in many OCS areas, in particular the military's use of portions of the Mid- and South Atlantic Planning Areas. As in the past, BOEM requests that DOD provide textual and graphic information as to the areas where oil and gas operations could be carried out. BOEM and DOD are committed to working through multiple use challenges so that each of our important missions is accomplished. Such detailed cooperation already occurs in the GOM and offshore California. During preparation of the 2017-2022 Program, DOD identified 95 percent of the proposed Atlantic Program Area as largely compatible with oil and gas activities, as long as appropriate mitigation measures are applied.

Public Comment Procedure

BOEM will accept comments in one of two formats: The internet commenting system, regulations.gov, or regular U.S. mail. Comments submitted by other means may not be considered. BOEM's strong preference is to receive comments via regulations.gov, except in the event that a comment contains information that is proprietary. Comments should be submitted using only one of these formats, and include full names and addresses of the individual submitting the comment(s). Before including personal identifying information in your comment, you should be aware that your entire comment—including your personal identifying information—may be made publicly available at any time. While you can ask us in your comment to withhold your personal identifying information from public review, we cannot guarantee that we will be able to do so.

Commenting via Internet

Internet comments should be submitted via the Federal internet commenting system at http://www.regulations.gov. BOEM requests that commenters follow these instructions to submit their comments via this Web site:

(1) In the search tab on the main page, search for BOEM-2017-0050.

(2) Locate the document, then click the “Submit a Comment” link either on the Search Results page or the Document Details page. This will display the Web comment form.

(3) Enter the submitter information and type the comment on the Web form. Attach any additional files (up to 10MB). (BOEM cannot ensure the security or confidentiality of information sent via the internet; therefore, information that is proprietary should be provided by U.S. mail as provided in the “From Oil and Gas Industry” section of this RFI.)

(4) After typing the comment, click the “Preview Comment” link to review. Once satisfied with the comment, click the “Submit” button to send the comment.

Information on using Regulations.gov, including instructions for accessing documents, submitting comments, and viewing the docket after the close of the comment period, is available through the site's “User Tips” link.

Commenting via Regular Mail

Mail comments and information on the 2019-2024 Program to Ms. Kelly Hammerle, National Program Manager, BOEM, 45600 Woodland Road, Mailstop VAM-LD, Sterling, VA 20166.

BOEM will post all comments to regulations.gov, subject to the limitations described in this section.

Dated: June 28, 2017.
Walter D. Cruickshank,
Acting Director, Bureau of Ocean Energy Management.

BILLING CODE 4310-MR-P

[FR Doc. 2017-13998 Filed 6-30-17; 8:45 am]

BILLING CODE 4310-MR-C